NUCLEAR WASTE TECHNICAL REVIEW BOARD

Board Meeting; April 16, 2013; Richland, WA

The U.S. Nuclear Waste Technical Review Board will meet to discuss DOE work on the vitrified HLW waste form for disposal in a repository.

Pursuant to its authority under section 5051 of Public Law 100-203, Nuclear Waste Policy Amendments Act of 1987, The U.S. Nuclear Waste Technical Review Board will hold an open public meeting in Richland, Washington, on Tuesday, April 16, 2013, to review information on U.S. Department of Energy (DOE) activities related to vitrifying high-level radioactive waste (HLW) stored at the Hanford facility in preparation for eventual disposal in a deep geologic repository. State, local, and regional public organizations have been invited to provide their perspectives on the most important technical issues associated with disposal of wastes from the Hanford site. Also discussed will be the Administration's recent response to recommendations of the Blue Ribbon Commission on America's Nuclear Future and DOE's work related to the potential direct disposal in a deep geologic repository of existing SNF storage containers used at commercial nuclear utility sites.

The Board is a completely independent agency in the Executive Branch of the Federal Government. The Board was created in the 1987 Amendments to the Nuclear Waste Policy Act (NWPA) to conduct an ongoing and objective evaluation of the technical and scientific validity of DOE activities related to implementing the NWPA, including transporting, packaging, and disposing of SNF and HLW. The 1987 Act directs the Board to report its findings, conclusions, and recommendations to Congress and the Secretary of Energy. The Board's statutorily established technical purview does not include the safety or operations of DOE-owned facilities or the management or disposal of low-level radioactive waste. The Board's technical and scientific review of DOE activities at the Hanford facility is focused primarily on the vitrified waste form, which eventually will require disposal in a deep geologic repository.

The Board meeting will be held at the Marriott Courtyard, 480 Columbia Point Drive, Richland, WA 99352; Tel 509-942-9400, Fax 509-942-9401. A block of rooms has been reserved at the Marriott Courtyard for meeting attendees. Reservations can be made online at http://cwp.marriott.com/psccy/technicalreviewboard. Reservations must be made by March 22, 2013 to ensure receiving the meeting rate. The reservation Group Name is “U.S. Nuclear Waste;” the Group Code is NWRG.

The meeting will begin at 8:00 a.m. with a call to order by the Board Chairman, followed by a welcome from DOE's Office of River Protection. A presentation that includes a broad overview of the responsibilities and objectives of DOE's Office of Environmental Management will precede a discussion of vitrification of HLW as a complex-wide waste management practice. A series of presentations and a panel discussion of technical experience with vitrification will follow. The last discussion before the lunch break will wrap up the technical presentations on vitrification, focusing on DOE's research and development programs related to waste forms.

A panel composed of representatives of affected state, local, and regional organizations will kick off the discussions on Tuesday afternoon. The panel members will present their views on the most important technical issues associated with the eventual disposal of HLW and SNF stored at the Hanford site. The panel discussion will be followed by a non-Hanford-related update on analyses being performed by DOE's Office of Nuclear Energy on the potential for directly disposing of existing SNF storage canisters used by commercial nuclear utilities in a deep geologic repository. The last presentation of the day will be on DOE's Strategy for the Management and Disposal of Used Nuclear Fuel and High-Level Radioactive Waste. At the end of the day, an opportunity for public comment will be provided.

Those wanting to speak during the public comments session are encouraged to sign the “Public Comment Register” at the check-in table. It may be necessary to set a time limit on individual remarks, but written comments of any length may be submitted for the record.

A detailed meeting agenda will be available on the Board's Web site: www.nwtrb.gov approximately one week before the meeting. The agenda also may be obtained by telephone request at that time.

Transcripts of the meeting will be available no later than May 10, 2013, on the Board's Web site, by email, on computer disk, and in paper format on library-loan from Davonya Barnes of the Board's staff.

For information on the meeting, contact Karyn Severson at severson@nwtrb.gov. For information on lodging or logistics, contact Linda Coultry: coultry@nwtrb.gov. Both can be reached by mail at 2300 Clarendon Boulevard, Suite 1300; Arlington, VA 22201-3367; by telephone at 703-235-4473; or by fax at 703-235-4495.

Dated: March 12, 2013.
Nigel Mote,
Executive Director, U.S. Nuclear Waste Technical Review Board.

[FR Doc. 2013-06024 Filed 3-15-13; 8:45 am]

BILLING CODE 6820-AM-M